DEPARTMENT OF THE INTERIOR

National Park Service

Ala Kahakai National Historic Trail Comprehensive Management Plan, County of Hawaii, HI; Notice of Intent To Prepare an Environmental Impact Statement

Summary: Pursuant to provisions in § 102(2)(c) of the National Environmental Policy Act of 1969 (Pub. L. 91-190), the National Park Service is initiating conservation planning and environmental impact analysis for a Comprehensive Management Plan (CMP) for the recently designated Ala Kahakai National Historic Trail. This effort will provide an Environmental Impact Statement (EIS) and CMP that encompasses protection of sacred, cultural and natural resources, visitor use and interpretation, and facilities. This National Historic Trail traces approximately 175 miles of the prehistoric coastal Ala Loa (“long trail”) on the island of Hawaii, from Upolu Point on the northern tip of the island, south along the entire west coast, around Ka Lae (South Point), and then up to the eastern boundary of Hawaii Volcanoes National Park. The original trail linked many pre-contact communities on the island, as well as locations of many significant events in Hawaiian history.

The Ala Kahakai Trail was designated a National Historic Trail by the United States Congress on January 24, 2000. This designation was derived from a trail feasibility study entitled Ala Kahakai National Trail Study (and Final Environmental Impact Statement, January 1998), as well as on testimony offered by community advocacy groups for the trail. On November 13, 2000, the 106th U.S. Congress and President William Clinton officially incorporated the trail into the National Trails System. Pub. L. 106-509 calls for establishment of a continuous trail, which is to be administered by the Secretary of the Interior.

Alternatives: As basis for preparing the Ala Kahakai NHT CMP/EIS, the NPS jointly with the State of Hawaii, Native Hawaiian groups, private landowners and other stakeholders will identify and analyze several alternative management concepts, consistent with agency policy. At this time, in addition to establishing an environmental baseline by developing a “No Action” alternative (maintaining existing conditions and management), the conservation planning process is expected to identify several alternative options for providing visitor use opportunities and suitable protection strategies. The CMP/EIS will evaluate the potential environmental impacts of each alternative, and identify appropriate mitigation actions. The alternatives will be based upon input from the community, an environmental constraints analysis using updated Geographical Information Systems (GIS) data, and other analytical and decision-making methods.

Impact Analysis Issues: The CMP/EIS will be tiered to the 1998 Ala Kahakai National Trail Study and EIS. All issues and concerns which informed completion of that project will be updated through consultations and discussions with current landowners, agencies, Native Hawaiian groups, local business owners, and other stakeholders. A planning newsletter is available detailing issues identified to date (copies may be obtained as noted below). At this time, topics to be addressed include:

(1) Protection of sacred and cultural Native Hawaiian sites from intended and unintended damage by trail users;

(2) Management of marine and terrestrial natural resources that are or may be affected by increased public use of the Ala Kahakai;

(3) Landowner liability with regard to access across privately-owned property, as well as trespassing, littering, and other property offenses (approximately 50% of the trail corridor, much of which may be owned in fee simple by the State of Hawaii, traverses private lands);

(4) Trail maintenance and monitoring by volunteer community-based groups;

(5) Facility development and maintenance; and

(6) Safety and security of trail users.

Scoping/Public Involvement: There will be public open house meetings held throughout the various stages of the overall conservation planning process. These meetings will be hosted in communities across the various regions along the designated trail route. The first public meetings will be to elicit comments that identify new concerns and issues, provide essential environmental information, and suggest trail design alternatives. These initial meetings will take place beginning on March 22, 2003. A final summary of all information developed in the scoping phase will be available. Subsequently, draft management alternatives will be developed and available for review through a second round of public meetings. Finally, public meetings to foster broad review of the Draft CMP/EIS will be hosted. All meetings will be noticed and publicized through the local news media, direct mailings, and on the trail's Web site.

Comments: All responses conveying new information or concerns are encouraged at this time, and may be submitted by any one of several methods. Mail comments to Mr. Mike Donoho, Planning Team Leader, 73-4786 Kanalani Street, #14, Kailua-Kona, HI 96740; or transmit via email c/o mike_donoho@nps.gov (include your name and return address in your email message); or via facsimile to (808) 329-2597. All written scoping comments must be postmarked or transmitted not later than 30 days from the date that this notice is published in the Federal Register—as soon as this date has been determined it will be widely publicized, including posting on the trail's Web site to be established in spring 2003.

Our practice is to make comments, including names and home addresses of respondents, available for public review during regular business hours. If individuals submitting comments request that their name or/and address be withheld from public disclosure, it will be honored to the extent allowable by law. Such requests must be stated prominently in the beginning of the comments. There also may be circumstances wherein the NPS will withhold a respondent's identity as allowable by law. As always: NPS will make available to public inspections all submissions from organizations or businesses, and from individuals identifying themselves as representatives or officials of organizations or businesses; and, anonymous comments may not be considered.

Decision Process: Availability of the Draft CMP/EIS for review and comment will be officially announced by notice of availability in the Federal Register, as well as through local and regional news media, area libraries, and direct mailing. At this time, distribution of the document is anticipated during fall 2004. After due consideration of all comments and information received, a Final CMP/EIS would be prepared which at this time is anticipated could be completed during summer 2005. As a delegated EIS, the official responsible for the final decision is the Regional Director, Pacific West Region; subsequently the official responsible for implementation is the Superintendent, Ala Kahakai National Historic Park.

Dated: February 13, 2003.
Arthur E. Eck,
Deputy Regional Director, Pacific West Region.

[FR Doc. 03-8494 Filed 4-7-03; 8:45 am]

BILLING CODE 4310-70-P